DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Mammal Stranding Report/Marine Mammal Rehabilitation Disposition Report.

Form Number(s): NOAA Forms 89-864 and 89-878.

OMB Approval Number: 0648-0178.

Type of Request: Regular submission.

Burden Hours: 2,400.

Number of Respondents: 400.

Average Hours Per Response: 30 minutes.

Needs and Uses: The marine mammal stranding—Level A—reports provide basic information on marine mammal strandings so that the National Marine Fisheries Service (NMFS) can compile and analyze by region the species, numbers, conditions, and causes of illnesses and deaths of stranded marine mammals. The Agency requires this information to fulfill its management responsibilities under the Marine Mammal Protection Act (16 U.S.C. 1421a). The Agency is also responsible for the welfare of marine mammals while in rehabilitation status. The information for the marine mammal rehabilitation disposition report is required for monitoring and tracking marine mammals held at various NMFS-authorized facilities. The information is submitted primarily by volunteer members making up the U.S. marine mammal stranding network.

Affected Public: Not-for-profit institutions; business or other for-profit organizations; State, Local or Tribal Government.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, fax number (202) 395-7285, or David_Rostker@omb.eop.gov.

Dated: August 8, 2007.
Gwellnar Banks,
Management Analyst, Office of the Chief Information Officer.

[FR Doc. E7-15786 Filed 8-10-07; 8:45 am]

BILLING CODE 3510-22-P